Title 3—

The President

Proclamation 10351 of March 23, 2022

Death of Madeleine Korbel Albright

By the President of the United States of America

A Proclamation

Madeleine Albright was a force. She defied convention and broke barriers again and again. She was an immigrant fleeing persecution. A refugee in need of safe haven. And like so many before her—and after—she was proudly American.

As the devoted mother of three beloved daughters, she worked tirelessly raising them while earning her doctorate degree and starting her career in American diplomacy. She took her talents first to the Senate as a staffer for Senator Edmund Muskie followed by the National Security Council under President Carter. And then to the United Nations where she served as United States Ambassador, and ultimately, made history as our first woman Secretary of State, appointed by President Clinton. A scholar, teacher, bestselling author, and later accomplished business woman, she always believed America was the indispensable Nation, and inspired the next generation of public servants to follow her lead, including countless women leaders around the world. Madeleine was always a force for goodness, grace, and decency—and for freedom.

As a mark of respect for former Secretary of State Madeleine Korbel Albright and her life of service to our Nation, I hereby order, by the authority vested in me as President of the United States by the Constitution and the laws of the United States of America, that the flag of the United States shall be flown at half-staff at the White House and upon all public buildings and grounds, at all military posts and naval stations, and on all naval vessels of the Federal Government in the District of Columbia and throughout the United States and its Territories and possessions until sunset on March 27, 2022. I also direct that the flag shall be flown at half-staff for the same length of time at all United States embassies, legations, consular offices, and other facilities abroad, including all military facilities and naval vessels and stations.

IN WITNESS WHEREOF, I have hereunto set my hand this twenty-third day of March, in the year of our Lord two thousand twenty-two, and of the Independence of the United States of America the two hundred and forty-sixth.

[FR Doc. 2022-06614

Filed 3-25-22; 8:45 am]

Billing code 3395-F2-P